DEPARTMENT OF HEALTH AND HUMAN SERVICES

Centers for Disease Control and Prevention

[30Day-20-19BOI]

Agency Forms Undergoing Paperwork Reduction Act Review

In accordance with the Paperwork Reduction Act of 1995, the Centers for Disease Control and Prevention (CDC) has submitted the information collection request titled the National Diabetes Prevention Program (DPP) Introductory Session Project to the Office of Management and Budget (OMB) for review and approval. CDC previously published a “Proposed Data Collection Submitted for Public Comment and Recommendations” notice on September 4th, 2019 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

National Diabetes Prevention Program (DPP) Introductory Session Project—New—National Center for Chronic Disease Prevention and Health Promotion (NCCDPHP), Centers for Disease Control and Prevention (CDC).

Background and Brief Description

The Centers for Disease Control and Prevention's (CDC's) National Diabetes Prevention Program lifestyle change program (National DPP LCP) focused on helping participants adopt healthier behaviors (e.g., improving diet, increasing physical activity, reducing stress) to prevent or delay the development of type 2 diabetes. This proposed project's primary purposes are to (1) increase knowledge of recruitment strategies, specifically introductory sessions, used by CDC-recognized organizations to increase enrollment in the National DPP LCP (Phase 1), and (2) evaluate the effectiveness of introductory sessions, specifically a CDC-developed behaviorally-informed introductory session known as the Be Your Best (BYB) Discovery Session, on enrollment compared with other types of introductory sessions that organizations currently use (Phase 2).

CDC is requesting OMB approval to collect information needed for this evaluation. For Phase 1 of this project, the Introductory Session Landscape Assessment, CDC is seeking approval to disseminate a brief Landscape Assessment (survey) to all National DPP CDC-recognized organizations (approximately 1,700) and their affiliate class locations (up to 540). The survey will initially be disseminated electronically (web-based survey), and then a hard copy will be mailed to non-respondents. The overall evaluation objectives of the Introductory Session Landscape Assessment are to increase knowledge of recruitment strategies (specifically introductory sessions) used by CDC-recognized organizations to increase enrollment in LCPs; understand how CDC-recognized organizations are using introductory sessions, including session content and delivery; and inform the subsequent Phase 2 Introductory Session Evaluation that will evaluate the BYB Discovery Session compared with other types of introductory sessions.

For the Phase 2 Introductory Session Evaluation, CDC is seeking approval to disseminate the following data collection tools: (1) Pre-Session Survey (to be completed by up to 2,640 introductory session attendees), (2) Post-Session Survey (to be completed by up to 2,640 introductory session attendees), (3) Registration and Attendance Tracking Form (to be completed by up to 132 LCP staff), and (4) Discovery Session Implementation Fidelity Checklist (to be completed by up to 66 LCP staff). The Pre-Session and Post-Session Surveys will be distributed as hard copies to introductory session attendees. The BYB Discovery Session Implementation Fidelity Checklist and the Registration and Attendance Tracking Form will be designed in Microsoft Excel and distributed to participating LCP staff using secure FTP upload for LCP personnel to complete electronically.

Information collected will be analyzed to evaluate the effectiveness of the BYB Discovery Session intervention in increasing enrollment in the National DPP LCP compared with already occurring introductory sessions (i.e., standard care), with a secondary aim of better understanding how it is implemented and the context of its implementation. This data collection important because if the BYB Discovery Session is determined to be an effective recruitment strategy compared with other existing introductory sessions, it should be promoted to maximize the National DPP's potential to reduce type 2 diabetes incidence.

Estimated Annualized Burden Hours
Type of respondents | Form name | Number of respondents | Number of responses per respondent | Average burden per response (in hours)
LCP Staff | Landscape Assessment | 2,240 | 1 | 15/60
Introductory Session Attendees (Individuals) | Pre-Session Survey | 2,640 | 1 | 10/60
Introductory Session Attendees (Individuals) | Post-Session Survey | 2,640 | 1 | 10/60
LCP Staff | Registration and Attendance Tracking Form | 132 | 1 | 15/60
LCP Staff | BYB Discovery Session Implementation Fidelity Checklist | 66 | 1 | 90/60

Jeffrey M. Zirger,
Lead, Information Collection Review Office, Office of Scientific Integrity, Office of Science, Centers for Disease Control and Prevention.

[FR Doc. 2020-03649 Filed 2-24-20; 8:45 am]

BILLING CODE 4163-18-P